DEPARTMENT OF HEALTH AND HUMAN SERVICES

Centers for Disease Control and Prevention

Disease, Disability, and Injury Prevention and Control Special Emphasis Panel (SEP): Grants for Education Programs in Occupational Safety and Health, Program Announcement #01001

In accordance with section 10(a)(2) of the Federal Advisory Committee Act (Pub. L. 92-463), the Centers for Disease Control and Prevention (CDC) announces the following meeting.

Name: Disease, Disability, and Injury Prevention and Control Special Emphasis Panel (SEP): Grants for Education Programs in Occupational Safety and Health, PA #01001, meeting.

Times and Dates: 7:30 p.m.-8 p.m., January 28, 2001 (Open); 8 p.m.-10 p.m., January 28, 2001 (Closed); 8 a.m.-6 p.m., January 29, 2001 (Closed); 8 a.m.-5 p.m., January 30, 2001 (Closed).

Place: Embassy Suites River Center, 10 E. River Center Boulevard, Covington, Kentucky 41011.

Status: Portions of the meeting will be closed to the public in accordance with provisions set forth in section 552b(c)(4) and (6), Title 5 U.S.C., and the Determination of the Associate Director for Management and Operations, CDC, pursuant to Public Law 92-463.

Matters to be Discussed: The meeting will include the review, discussion, and evaluation of applications received in response to Program Announcement 01001.

Contact Person for More Information: Bernadine Kuchinski, Occupational Health Consultant, Office of Extramural Coordination and Special Projects, National Institute for Occupational Safety and Health, 1600 Clifton Road, NE, Atlanta, Georgia 30333. Phone 404/639-3342, e-mail bbk1@cdc.gov.

The Director, Management Analysis and Services office has been delegated the authority to sign Federal Register notices pertaining to announcements of meetings and other committee management activities, for both the Centers for Disease Control and Prevention and the Agency for Toxic Substances and Disease Registry.

Dated: December 11, 2000.
Carolyn J. Russell,
Director, Management Analysis and Services Office, Centers for Disease Control and Prevention CDC.

[FR Doc. 00-32102 Filed 12-15-00; 8:45 am]

BILLING CODE 4163-19-P